DEPARTMENT OF THE INTERIOR

Bureau of Land Management

[MT-921-02-1320-EL-P; NDM 91535]

Notice of Coal Lease Application—NDM 91535—The Coteau Properties Company

AGENCY: Bureau of Land Management, Interior.

ACTION: Notice.

SUMMARY: Notice of The Coteau Properties Company's Coal Lease Application NDM 91535 for certain coal resources within the Fort Union Coal Region.

The land included in Coal Lease Application NDM 91535 is located in Mercer County, North Dakota, and is described as follows:

T. 144 N., R. 88 W., 5th P. M.

Sec. 2: Lots 3 and 4, S½NW¼;

Sec. 4: Lots 1 and 2, S½NE¼, S½;

Sec. 6: All;

Sec. 8: N½NE¼, SE¼NE¼, NW¼, N½SW¼;

T. 145 N., R. 88 W., 5th P. M.

Sec. 4: Lots 1 to 4, inclusive, S½N½, S½SW¼, SE¼;

Sec. 10: N½;

Sec. 14: All;

Sec. 22: All;

Sec. 26: N½NE¼, SW¼NE¼, W½, NW¼SE¼;

Sec. 28: NE¼NE¼, S½NE¼, SE¼NW¼, S½;

Sec. 34: N½N½, SE¼NE¼, SW¼, NE¼SE¼, S½SE¼;

T. 144 N., R. 89 W., 5th P. M.

Sec. 12: E½.

The 5,571.34-acre tract contains an estimated 88 million tons of recoverable coal reserves.

The application will be processed in accordance with the provisions of the Mineral Leasing Act of 1920, as amended (30 U.S.C. 181, et seq.), and the implementing regulations at 43 CFR part 3400. A decision to allow leasing of the coal reserves in said tract will result in a competitive lease sale to be held at a time and place to be announced through publication pursuant to 43 CFR part 3422.

SUPPLEMENTARY INFORMATION: The Coteau Properties Company is the lessee and operator of Federal Coal Leases NDM 81582, NDM 85515, and NDM 85517, at the Freedom Mine. The entire area included within this lease application lies west of the present Freedom Mine permit area.

The area applied for would be mined as an extension of the Freedom Mine and would utilize the same methods as those currently being used. The lease being applied for can extend the life of the mine by about 5 and one-half years and enable recovery of coal that might never be mined if not mined as a logical extension of current pits.

Notice of Availability: The application is available for review between the hours of 9 a.m. and 4 p.m. at the Bureau of Land Management, Montana State Office, 5001 Southgate Drive, Billings, Montana 59101, and at the Bureau of Land Management, Dakotas District Office, whose address is 2033 Third Avenue West, Dickinson, North Dakota, 58601-2619, between the hours of 8 a.m. and 4 p.m.

FOR FURTHER INFORMATION CONTACT: Rebecca Good, Coal Coordinator, at telephone 406-896-5080, Bureau of Land Management, Montana State Office, 5001 Southgate Drive, P.O. Box 36800, Billings, Montana 59107-6800.

Dated: February 6, 2002.
Randy D. Heuscher,
Chief, Branch of Solid Minerals.

[FR Doc. 02-10387 Filed 4-25-02; 8:45 am]

BILLING CODE 4310-$$-P